DEPARTMENT OF AGRICULTURE

Forest Service

Forest Counties Payments Committee

AGENCY: Forest Service, USDA.

ACTION: Notice; request for comments.

SUMMARY: The Forest Counties Payments Committee is required to provide Congress with the information specified in section 320 of the Fiscal Year 2001 Interior and Related Agencies Appropriations Act. In order to develop its recommendations to Congress, the Committee requests comments from the general public.

DATES: Comments on this notice must be received by April 30, 2002 to be assured of consideration. Comments received after that date will be considered to the extent practicable.

ADDRESSES: Written comments should be submitted to Randle G. Phillips, Executive Director, Forest Counties Payments Committee, PO Box 34718, Washington, DC 20043-4713, (202) 208-6574 or electronically to the Committee's web site at http://countypayments.gov/comments.html.

FOR FURTHER INFORMATION CONTACT: Randle G. Phillips, Executive Director, Forest Counties Payments Committee, (202) 208-6574; or via e-mail at rphillips01@fs.fed.us.

SUPPLEMENTARY INFORMATION: Section 320 of the 2001 Interior and Related Agencies Appropriations Act (Pub L. 106-291) created the Forest Counties Payments Committee to make recommendations to Congress on a long-term solution for making Federal payments to eligible States and counties in which Federal lands are situated. The Committee will consider the impact on eligible States and counties of revenues from the historic multiple use of Federal lands; evaluate the economic, environmental, and social benefits which accrue to counties containing Federal lands; evaluate the expenditures by counties on activities occurring on Federal lands which are Federal responsibilities; and monitor payments and implementation of Pub L. 106-393, “Secure Rural Schools and Community Self-Determination Act of 2000.”

The Committee asks that respondents provide information in response to the following questions:

1. Do counties receive their fair share of federal revenue-sharing payments made to eligible States?

2. What difficulties exist in complying with, and managing all of the federal revenue-sharing payments programs? Are some more difficult than others?

3. What economic, social, and environmental costs do counties incur as a result of the presence of public lands within their boundaries?

4. What economic, social, and environmental benefits do counties realize as a result of public lands within their boundaries?

5. What are the economic and social effects from changes in revenues generated from public lands over the past 15 years, as a result of changes in management on public lands in your State or county?

6. What actions has your State or county taken to mitigate any impacts associated with declining economic conditions, or revenue-sharing payments?

7. What effects, both positive and negative, have taken place with education and highway programs that are attributable to the management of public lands within your State or county?

8. What relationship, if any, should exist between federal revenue-sharing programs, and management activities on public lands?

9. What alternatives exist to provide equitable revenue-sharing to States and counties and to promote “sustainable forestry?”

10. What has been your experience regarding implementation of Pub L. 106-393, The Secure Rural Schools and Community Self-Determination Act?

11. What changes in law, policies and procedures, and the management of public land have contributed to changes in revenue derived from the multiple-use management of these lands?

12. What changes in law, policies and procedures, and the management of public land are needed in order to restore the revenues derived from the multiple-use management of these lands?

Dated: January 29, 2002.
Elizabeth Estill,
Deputy Chief, Programs and Legislation.

[FR Doc. 02-2586 Filed 2-1-02; 8:45 am]

BILLING CODE 3410-11-P